TENNESSEE VALLEY AUTHORITY

Sunshine Act; Meeting No. 1553

Time and Date: 9:30 a.m. (c.d.t.), August 18, 2004, The Lannom Center for Business Development, 2000 Commerce Avenue, Dyersburg, Tennessee.

Status: Open.

Agenda: Approval of minutes of meeting held on July 21, 2004.

New Business

A—Budget and Financing

A1. Approval of short-term borrowing from the United States Treasury.

B—Purchase Awards

B1. Supplements to temporary staffing services contracts with the following suppliers at any TVA location: Acro Service Corporation; Adecco Technical; CDI Professional Services; G. D. Barri and Associates; Johnson Service Group; Numanco, LLC; Retiree Resources Corporation; TFE, Inc; Volt Services Group; Westaff Technical; and Zycron Computer Services.

B2. Delegation of authority to the Senior Vice President, Procurement, or a designee, upon the recommendation of the Executive Vice President, Fossil Power Group, or a designee, to enter into a contract for the sale of a Manitowoc 2100 crawler lift crane and associated equipment.

E—Real Property Transactions

E1. Sale of a permanent easement, Tract No. XMTPSC-1B, affecting approximately 1.03 acres of land, and grant of a nonexclusive access road easement, Tract No. XMTPSC-2AR, affecting approximately 0.31 acre of land to JHL Properties, Inc., in Hamblen County, Tennessee.

E2. Abandonment of a portion of the inactive Jackson-Milan-Trenton transmission line right-of-way easement affecting approximately 0.86 acre of land in Madison County, Tennessee, Tract No. JMT-35, to resolve an encroachment of a residence.

E3. Sale of a permanent easement to the heirs of the E. G Miller estate for an access road, affecting approximately 0.1 acre of land on Cherokee Reservoir in Grainger County, Tennessee, Tract No. XCK-586AR.

E4. Modification of certain deed restrictions affecting approximately 0.13 acre of former TVA land on Chickamauga Reservoir in Hamilton County, Tennessee, Tract No. XCR-426:42, S.2X.

E5. Sale of two permanent easements and deed modification to David Vaccaro and Mark Morgan for the construction of an access road, affecting approximately 0.23 acre of land on Watts Bar Reservoir in Rhea County, Tennessee, Tract Nos. XWBR-716E, XWBR-717E, and XWBR-125, S.2X.

F—Other

F1. Approval to file a condemnation case to acquire an easement and right-of-way affecting 1.87 acre of land in Fannin County, Georgia, for the Basin-Toccoa Transmission Line.

Information Items

1. Approval of certain actions addressing variable price interruptible power pricing changes and related matters.

2. Approval of increased energy charges for limited interruptible power and limited firm power.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: August 11, 2004.
Maureen H. Dunn,
General Counsel and Secretary.

[FR Doc. 04-18746 Filed 8-12-04; 10:30 am]

BILLING CODE 8120-08-P